FEDERAL COMMUNICATIONS COMMISSION

[Report No. 2607]

Petitions for Reconsideration of Action in Rulemaking Proceedings

Petitions for Reconsideration have been filed in the Commission's rulemaking proceedings listed in this Public Notice and published pursuant to 47 CFR 1.429(e). The full text of this document is available for viewing and copying in Room CY-A257, 445 12th Street, SW., Washington, DC or may be purchased from the Commission's copy contractor, Qualex International (202) 863-2893. Oppositions to these petitions must be filed by May 20, 2003. See section 1.4(b)(1) of the Commission's rules (47 CFR 1.4(b)(1)). Replies to an opposition must be filed within 10 days after the time for filing oppositions have expired.

Subject:

In the Matter of the Revisions to Broadcast Auxiliary Service Rules in Part 74 and Conforming Technical Rules for Broadcast Auxiliary Service, Cable Television Relay Service and Fixed Services in Parts 74, 78 and 101 of the Commission's Rules (ET Docket No. 01-75)

Telecommunications Industry Association, Petition for Rulemaking Regarding Digital Modulation for the Television Broadcast Auxiliary Service (RM-9418)

Alliance of Motion Picture and Television Producers, Petition for Rulemaking Regarding Low-Power Video Assist Devices in Portions of the UHF and VHF Television Bands (RM-9856)

Number of Petitions Filed: 2.

Subject:

In the Matter of the Stale or Moot docketed Proceedings, 1993

Annual Access Tariff Filings phase I (CC Docket No. 93-193)

1994 Annual Access Tariff Filings (CC Docket No. 94-65)

AT&T Communications Tariff F.C.C. Nos. 1 and 2, Transmittal Nos. 5460, 5461, 5462, And 5464 Phase II (CC Docket No. 93-193)

Bell Atlantic Telephone Companies Tariff F.C.C. No. 1, Transmittal No. 690 (CC Docket No. 94-157)

Number of Petitions Filed: 1.

Marlene H. Dortch,
Secretary.

[FR Doc. 03-10969 Filed 5-2-03; 8:45 am]

BILLING CODE 6712-01-M